DEPARTMENT OF THE INTERIOR

National Park Service

[NPS-WASO-NAGPRA-NPS0030729; PPWOCRADN0-PCU00RP14.R50000]

Notice of Inventory Completion: Tennessee Valley Authority, Knoxville, TN

AGENCY: National Park Service, Interior.

ACTION: Notice.

SUMMARY: The Tennessee Valley Authority (TVA) has completed an inventory of associated funerary objects, in consultation with the appropriate Indian Tribes, and has determined that a cultural affiliation between the associated funerary objects and present-day Indian Tribes can reasonably be traced. Lineal descendants or representatives of any Indian Tribe not identified in this notice that wish to request transfer of control of the associated funerary objects should submit a written request to the TVA. If no additional requestors come forward, transfer of control of the associated funerary objects to the Indian Tribes stated in this notice may proceed.

DATES: Lineal descendants or representatives of any Indian Tribe not identified in this notice that wish to request transfer of control of the associated funerary objects should submit a written request with information in support of the request to the TVA at the address in this notice by September 21, 2020.

ADDRESSES: Dr. Thomas O. Maher, Tennessee Valley Authority, 400 West Summit Hill Drive, WT11C, Knoxville, TN 37902-1401, telephone (865) 632-7458, email tomaher@tva.gov.

SUPPLEMENTARY INFORMATION: Notice is here given in accordance with the Native American Graves Protection and Repatriation Act (NAGPRA), 25 U.S.C. 3003, of the completion of an inventory of associated funerary objects under the control of the Tennessee Valley Authority, Knoxville, TN. The associated funerary objects were removed from an archeological site in Marshall County, AL.

This notice is published as part of the National Park Service's administrative responsibilities under NAGPRA, 25 U.S.C. 3003(d)(3). The determinations in this notice are the sole responsibility of the museum, institution, or Federal agency that has control of the Native American associated funerary objects. The National Park Service is not responsible for the determinations in this notice.

Consultation

A detailed assessment of the associated funerary objects was made by TVA professional staff in consultation with representatives of the Absentee Shawnee Tribe of Indians of Oklahoma; Alabama-Coushatta Tribe of Texas (previously listed as Alabama-Coushatta Tribes of Texas); Cherokee Nation; Coushatta Tribe of Louisiana; Eastern Band of Cherokee Indians; Poarch Band of Creeks (previously listed as Poarch Band of Creek Indians of Alabama); The Chickasaw Nation; The Choctaw Nation of Oklahoma; The Muscogee (Creek) Nation; The Seminole Nation of Oklahoma; and the United Keetoowah Band of Cherokee Indians in Oklahoma (hereafter referred to as “The Consulted Tribes”).

History and Description of the Associated Funerary Objects

The site listed in this notice, archeological site 1MS32, was excavated as part of TVA's Guntersville Reservoir project by the Alabama Museum of Natural History (AMNH) at the University of Alabama, using labor and funds provided by the Works Progress Administration. Details regarding these excavations may be found in “An Archaeological Survey of Guntersville Basin on the Tennessee River in Northern Alabama,” by William S. Webb and Charles G. Wilder. Human remains and associated funerary objects from site 1MS32 were listed in a Notice of Inventory Completion in 2019 (84, FR, 18082-18084, April 29, 2019). All the cultural items listed in that notice have been transferred to the Alabama-Coushatta Tribe of Texas (previously listed as Alabama-Coushatta Tribes of Texas); Alabama-Quassarte Tribal Town; Cherokee Nation; Coushatta Tribe of Louisiana; Eastern Band of Cherokee Indians; The Muscogee (Creek) Nation and the United Keetoowah Band of Cherokee Indians in Oklahoma. Recently, additional associated funerary objects were discovered during a review of TVA's archeological collection at the AMNH.

On July 21, 1937, excavation of burial 44 took place at the McKee Island site, 1MS32, in Marshall County, AL, following TVA's acquisition of the site on November 12, 1936. The two associated funerary objects listed in this notice are copper collars.

Site 1MS32 was a midden-rich village extending 800 feet along a ridge of the now-inundated McKee Island. While there are no radiocarbon dates from this site, Jon Marcoux's study of glass beads from 1MS32 indicates a historic occupation in the range of A.D. 1650-1750. Similarly, analysis of brass bells recovered from this site suggests an occupation range from the late 1600s through the 1700s. During this period, multiple tribes were using the Guntersville Reservoir area. Chronicles from Spanish explorers of the 16th century and French explorers of the 17th and 18th century indicate the presence of chiefdom-level tribal entities in the southeastern United States that resemble the historic Native American chiefdoms. Linguistic analysis of place names noted by multiple Spanish explorers indicates that Koasati-speaking Muskogean groups inhabited northeastern Alabama. Early maps and research into the historic Native American occupation of northeastern Alabama indicate that in the 17th and 18th centuries, the Koasati (as they were called by the English) or the Kaskinampo (as they were called by the French) were found at multiple sites in Jackson and Marshall Counties. Oral history, traditions, and expert opinions of the descendants of the Koasati/Kaskinampo and Muscogee (Creek) indicate that this portion of the Tennessee River valley was the homelands of their Tribes. Oral traditional information also indicates that by the middle 1700s, the Koasati/Kaskinampo were leaving the Tennessee River valley and moving south.

Both British and American historians indicate that some Cherokee were leaving their traditional Tribal lands in the Appalachian Mountains and the Little Tennessee River watershed in the 1700s. In the 1770s, a group of Cherokee, often designated the Chickamauga in historical documents, had relocated to areas northeast of present-day Chattanooga, Tennessee. Reprisals by American militia for Cherokee support of the British during the American Revolution forced these Cherokee further down the Tennessee River; by 1785-1790, there were named Cherokee villages in the Guntersville Reservoir area. At the same time, the Koasati, Muscogee (Creek), and Cherokee all hunted in the Tennessee Valley. Consequently, a relationship of shared group identity can reasonably be traced between the above earlier groups and their present-day descendant tribes, which include the Alabama-Coushatta Tribe of Texas (previously listed as Alabama-Coushatta Tribes of Texas); Alabama-Quassarte Tribal Town; Cherokee Nation; Coushatta Tribe of Louisiana; Eastern Band of Cherokee Indians; The Muscogee (Creek) Nation; and the United Keetoowah Band of Cherokee Indians in Oklahoma.

Determinations Made by the Tennessee Valley Authority

Officials of the Tennessee Valley Authority have determined that:

• Pursuant to 25 U.S.C. 3001(3)(A), the two objects described in this notice are reasonably believed to have been placed with or near individual human remains at the time of death or later as part of the death rite or ceremony.

• Pursuant to 25 U.S.C. 3003(d)(2)(C), while the Native American associated funerary objects are not clearly identifiable as being culturally identifiable to a single Indian Tribe, the Tennessee Valley Authority has determined by a reasonable belief that, given the totality of circumstances, these objects are culturally affiliated with the Alabama-Coushatta Tribe of Texas (previously listed as Alabama-Coushatta Tribes of Texas); Alabama-Quassarte Tribal Town; Cherokee Nation; Coushatta Tribe of Louisiana; Eastern Band of Cherokee Indians; The Muscogee (Creek) Nation; and the United Keetoowah Band of Cherokee Indians in Oklahoma (hereafter referred to as “The Tribes”).

Additional Requestors and Disposition

Lineal descendants or representatives of any Indian Tribe not identified in this notice that wish to request transfer of control of the associated funerary objects should submit a written request with information in support of the request to Dr. Thomas O. Maher, Tennessee Valley Authority, 400 West Summit Hill Drive, WT11C, Knoxville, TN 37902-1401, telephone (865) 632-7458, email tomaher@tva.gov, by September 21, 2020. After that date, if no additional requestors have come forward, transfer of control of the associated funerary objects to The Tribes may proceed.

The Tennessee Valley Authority is responsible for notifying The Consulted Tribes that this notice has been published.

Dated: August 3, 2020.
Melanie O'Brien,
Manager, National NAGPRA Program.

[FR Doc. 2020-18234 Filed 8-19-20; 8:45 am]

BILLING CODE 4312-52-P